ENVIRONMENTAL PROTECTION AGENCY

40 CFR Parts 52 and 70

[EPA-R01-OAR-2023-0353; FRL-11161-02-R1]

Air Plan Approval and Operating Permit Program Approval; Connecticut; Revision to Definitions

AGENCY: Environmental Protection Agency (EPA).

ACTION: Final rule.

SUMMARY: The Environmental Protection Agency (EPA) is taking final action to approve, through parallel processing, a revised definition in the State Implementation Plan (SIP) and the Title V Operating Permit Program for the State of Connecticut. On November 30, 2023, the Connecticut Department of Energy and Environmental Protection (CT DEEP) submitted to EPA the State's adopted regulatory amendments to the definition of “severe non-attainment area for ozone” for inclusion in the EPA-approved SIP and Title V Operating Permit Program. The revision is necessary to fully implement these programs based on a nonattainment reclassification to a portion of Connecticut for the 2008 ozone National Ambient Air Quality Standard. EPA is approving these revisions pursuant to the Clean Air Act (CAA) and implementing federal regulations.

DATES: This rule is effective on March 13, 2024.

ADDRESSES: EPA has established a docket for this action under Docket Identification No. EPA-R01-OAR-2023-0353. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Ariel Garcia, Air Quality Branch, U.S. Environmental Protection Agency, EPA Region 1, 5 Post Office Square—Suite 100, (Mail code 5-MI), Boston, MA 02109-3912, tel. (617) 918-1660, email garcia.ariel@epa.gov.

SUPPLEMENTARY INFORMATION: Throughout this document whenever “we,” “us,” or “our” is used, we mean EPA.

Table of Contents

I. Background and Purpose

II. Response to Comments

III. Final Action

IV. Incorporation by Reference

V. Statutory and Executive Order Reviews

I. Background and Purpose

On July 17, 2023 (88 FR 45373), EPA published a Notice of Proposed Rulemaking (NPRM) for the State of Connecticut. The NPRM proposed approval of a revised definition in the SIP and the Title V Operating Permit Program for the State of Connecticut. On June 9, 2023, CT DEEP requested parallel processing of the revised definition of “severe non-attainment area for ozone” within the Regulations of Connecticut State Agencies (RCSA) 22a-174-1 for approval into the SIP and as a program revision to the State's Title V operating permitting program. Under the parallel processing procedure, EPA proposed approval of the revised definition before the State's final adoption of the definition. Connecticut subsequently adopted the revised definition which became effective on November 13, 2023. The formal revisions to the SIP and the Title V operating permitting program were submitted by Connecticut on November 30, 2023.

The rationale for EPA's proposed approval of the revised definition in the SIP and the Title V operating permitting program are explained in the NPRM and will not be restated here. EPA is proceeding with our final approval of the November 30, 2023 submitted revisions to the Connecticut SIP and Title V Operating Permit Program, consistent with the parallel processing provisions in 40 CFR part 51, Appendix V. EPA has reviewed Connecticut's adopted definition of “severe non-attainment area for ozone” contained in RCSA 22a-174-1, and it does not differ from the proposed regulation submitted as part of the parallel processing request on June 9, 2023. That is, CT DEEP adopted the revisions as they were proposed, i.e. no changes were made.

II. Response to Comments

EPA received two comments during the comment period; both comments are supportive. As such, these comments do not require further response to finalize the action as proposed. Nevertheless, EPA is including these comments in the docket for this rule.

III. Final Action

EPA is approving Connecticut's revised definition of “severe non-attainment area for ozone,” contained in RCSA 22a-174-1 as amended by the State of Connecticut on November 13, 2023, as a revision to the Connecticut SIP and Title V Operating Permit Program.

IV. Incorporation by Reference

In this rule, the EPA is finalizing regulatory text that includes incorporation by reference. In accordance with requirements of 1 CFR 51.5, the EPA is finalizing the incorporation by reference the revised definition of “severe non-attainment area for ozone” within Connecticut's RCSA section 22a-174-1, Definitions, (106), as described in Section I of this preamble. Background and Purpose of this preamble and set forth below in the amendments to 40 CFR part 52. The EPA has made, and will continue to make, these documents generally available through https://www.regulations.gov and at the EPA Region 1 Office (please contact the person identified in the FOR FURTHER INFORMATION CONTACT section of this preamble for more information).

V. Statutory and Executive Order Reviews

Under the CAA, the Administrator is required to approve SIP and Title V submissions that complies with the provisions of the Act and applicable Federal regulations. See 42 U.S.C. 7410(k) and 7661a(d); 40 CFR 52.02(a) and 70.4(e). Thus, in reviewing SIP and Title V submissions, EPA's role is to approve State choices, provided that they meet the criteria of the CAA. Accordingly, this action merely approves State law as meeting Federal requirements and does not impose additional requirements beyond those imposed by State law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

CT DEEP did not evaluate environmental justice considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by April 12, 2024. Filing a petition for reconsideration by the Administrator of this final rule does not affect the finality of this action for the purposes of judicial review nor does it extend the time within which a petition for judicial review may be filed and shall not postpone the effectiveness of such rule or action. This action may not be challenged later in proceedings to enforce its requirements. (See section 307(b)(2).)

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 70

Environmental protection, Administrative practice and procedure, Air pollution control, Intergovernmental relations, Operating Permits, Reporting and recordkeeping requirements.

Dated: February 6, 2024.
David Cash,
Regional Administrator, EPA Region 1.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart H—Connecticut

2. Section 52.370 is amended by adding paragraph (c)(130) to read as follows:

§ 52.370 Identification of plan.

* * * * *

(c) * * *

(130) Revisions to the State Implementation Plan submitted by the Connecticut Department of Environmental Protection on November 30, 2023.

(i) Incorporation by reference.

(A) Regulations of Connecticut State Agencies Section 22a-174-1, “Definitions,” (106), definition of “Severe non-attainment area for ozone.”

(B) Reserved.

(ii) Additional materials.

(A) Letter from CT DEEP submitted to EPA on November 30, 2023, entitled “State Implementation Plan Revision Concerning the Definition of Severe Non-Attainment Area for Ozone.”

(B) Reserved.

3. In § 52.385 amended Table 52.385 by adding a sixth entry for “22a-174-1” before the entry for “22a-174-2” to read as follows:

§ 52.385 EPA-approved Connecticut regulations.

* * * * *

Table 52.385—EPA-Approved Regulations
Connecticut State citation | Title/subject | Dates: Date adopted by State | Dates: Date approved by EPA | Federal Register citation | Section 52.370 | Comments/description
* * * * * * *
22a-174-1 | Definitions | 11/13/2023 | 2/12/2024 | [Insert Federal Register citation] | (c)(130) | Modified definition of “severe non-attainment area for ozone”.
* * * * * * *

PART 70—STATE OPERATING PERMIT PROGRAMS

4. The authority citation for part 70 continues to read as follows:

Authority: 42 U.S.C. 7401, et seq.

5. Amend Appendix A to Part 70 under “Connecticut” by adding paragraph (b) to read as follows:

Appendix A to Part 70—Approval Status of State and Local Operating Permits Programs * * *

Connecticut

* * * * *

(b) Connecticut Department of Environmental Protection submitted revisions on November 30, 2023 to Regulations of Connecticut State Agencies Section 22a-174-1, “Definitions,” definition of “Severe non-attainment area for ozone.” This rule amendment contained in this submittal is necessary to make the current definition as stringent as the reclassified severe nonattainment area in the State of Connecticut. The State is hereby granted approval effective on March 13, 2024.

[FR Doc. 2024-02700 Filed 2-9-24; 8:45 am]

BILLING CODE 6560-50-P